DEPARTMENT OF AGRICULTURE

Agricultural Marketing Service

7 CFR Part 1205

[Doc. No. CN-03-003]

Cotton Research and Promotion Program: Section 610 Review

AGENCY: Agricultural Marketing Service, USDA.

ACTION: Confirmation of regulations.

SUMMARY: This document summarizes the results of an Agricultural Marketing Service (AMS) review of the Cotton Research and Promotion Program under the criteria contained in section 610 of the Regulatory Flexibility Act (RFA). Based upon its review, AMS has determined that the Cotton Research and Promotion Order should be continued without change.

ADDRESSES: Interested persons may obtain a copy of the review. Requests for copies should be sent to Whitney Rick, Chief, Research and Promotion Staff, USDA, AMS, Cotton Program, 14th and Independence Avenue, SW., Stop 0224, Washington, DC 20250-0224; Fax (202) 690-1718; or e-mail whitney.rick@usda.gov.

FOR FURTHER INFORMATION CONTACT: Whitney Rick, Chief, Research and Promotion Staff, USDA, AMS, Cotton Program, 14th and Independence Avenue, SW., Stop 0224, Washington, DC 20250-0224; Fax (202) 690-1718; or e-mail whitney.rick@usda.gov.

SUPPLEMENTARY INFORMATION: The Cotton Research and Promotion Act of 1966 (7 U.S.C. 2101 et seq.) authorized a national Cotton Research and Promotion Program which is industry operated and funded, with oversight by USDA. The program's objective is to enable cotton growers and importers to establish, finance and carry out a coordinated program of research and promotion to improve the competitive position of, and to expand markets for cotton.

The Program became effective on December 31, 1966, when the Cotton Research and Promotion Order (7 CFR part 1205) was issued. Assessments began with the 1967 cotton crop. The Order was later amended and a supplemental assessment initiated, not to exceed one percent of the value of each bale, effective January 28, 1977. The current assessment is $1 per bale plus five-tenths of one percent of the value of the bales and is collected on every bale of cotton harvested and ginned in the U.S. and on imported raw cotton and on the non-U.S. cotton content of imported textile and apparel products.

AMS published in the Federal Register (64 FR 8014) its plan to review certain regulations, including the Cotton Research and Promotion Order, under the criteria contained in section 610 of the Regulatory Flexibility Act (RFA) (5 U.S.C. 601-612). An updated plan was published in the Federal Register on August 14, 2003 (68 FR 48573).

AMS published a notice for review and request for written comments on the Order in the August 26, 2003, issue of the Federal Register (68 FR 51202). No comments were received.

The review was undertaken to determine whether the Order should be continued without change, amended, or rescinded (consistent with the objectives of the Act) to minimize the impacts on small entities. In conducting this review, AMS considered the following factors: (1) The continued need for the Order; (2) the nature of complaints or comments received from the public concerning the Order; (3) the complexity of the Order; (4) the extent to which the Order overlaps, duplicates, or conflicts with other Federal rules, and, to the extent feasible, with State and local governmental rules; and (5) the length of time since the Order has been evaluated or the degree to which technology, economic conditions, or other factors have changed in the area affected by the Order.

Currently, there are approximately 21,000 producers, 300 first handlers, and 12,000 importers covered under the Order. AMS provides Federal oversight of the cotton research and promotion program. The Order is not unduly complex, and AMS has not identified regulations that duplicate, overlap, or conflict with the Order. Over the years, regulation changes have been made to address industry operation changes and to improve program administration. The goal of these evaluations is to assure that the Order and the regulations implemented under it fit the needs of the industry and are consistent with the Act. With the exception of challenges concerning the constitutionality of assessments used for generic advertising under the Order, which the Department is currently defending, AMS has not received complaints about the Order.

Based upon the review, AMS has determined that the Order should be continued without change. AMS plans to continue working with the cotton industry in maintaining an effective program.

Dated: February 3, 2004.
A.J. Yates,
Administrator, Agricultural Marketing Service.

[FR Doc. 04-2697 Filed 2-6-04; 8:45 am]

BILLING CODE 3410-02-P